DEPARTMENT OF VETERANS AFFAIRS

[OMB Control No. 2900-0723]

Proposed Information Collection (Mentor-Protégé Program Application and Reports) Activity; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice solicits comments on information needed to establish a mentor-protégé program agreement between a large business, veteran-owned small business and service-disabled veteran-owned small business and to report the success of the program.

DATES: Written comments and recommendations on the proposed collection of information should be received on or before January 17, 2012.

ADDRESSES: Submit written comments on the collection of information through http://www.Regulations.gov; or to Arita Tillman, Office of Acquisition and Logistics (049P1), Department of Veterans Affairs, 810 Vermont Avenue NW, Washington, DC 20420; or email: arita.tillman@va.gov. Please refer to “OMB Control No. 2900-0723” in any correspondence. During the comment period, comments may be viewed online through the Federal Docket Management System (FDMS) at http://www.Regulations.gov.

FOR FURTHER INFORMATION CONTACT: Arita Tillman at (202) 461-6859, Fax (202) 273-6229.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, (OM) invites comments on: (1) Whether the proposed collection of information is necessary for the proper performance of (OM)'s functions, including whether the information will have practical utility; (2) the accuracy of (OM)'s estimate of the burden of the proposed collection of information; (3) ways to enhance the quality, utility, and clarity of the information to be collected; and (4) ways to minimize the burden of the collection of information on respondents, including through the use of automated collection techniques or the use of other forms of information technology.

Titles:

a. Department of Veterans Affairs Acquisition Regulation (VAAR) Clause 819.7108, Application Process.

b. Department of Veterans Affairs Acquisition Regulation (VAAR) Clause 819.7113, Reports.

OMB Control Number: 2900-0723.

Type of Review: Extension of a currently approved collection.

Abstract: The information collected under Department of Veterans Acquisition Regulation (VAAR) Clauses 819.7108 and 819.7113 will be used to institute a mentor-protégé program whereby large businesses agree to provide mutually developmental support to veteran-owned small business and service-disabled veteran-owned small business. VA will use the data to measure the protégé progress against the developmental plan contained in the approved agreement and to report the specific actions taken by the mentor to increase the participation of the protégé as a prime or subcontractor to VA.

Affected Public: Businesses or other for-profits. Estimated Annual Burden:

a. VAAR Clause 819.7108, Application Process—50 hours.

b. VAAR Clause 819.7113, Reports—150 hours.

Estimated Average Burden per Respondent:

a. VAAR Clause 819.7108, Application Process—60 minutes.

b. VAAR Clause 819.7113, Reports—60 minutes.

Frequency of Response: Quarterly.

Estimated Number of Respondents:

a. VAAR Clause 819.7108, Application Process—50.

b. VAAR Clause 819.7113, Reports—50.

Total number of Responses: 200.

Dated: November 8, 2011.
By direction of the Secretary.
Denise McLamb,
Program Analyst, Enterprise Records Service.

[FR Doc. 2011-29368 Filed 11-14-11; 8:45 am]

BILLING CODE 8320-01-P